DEPARTMENT OF EDUCATION

[CFDA No. 84.338]

Office of Elementary and Secondary Education—Reading Excellence Program

ACTION: Notice to change deadline for intergovernmental review.

SUMMARY: On March 29, 2001 (66 FR 17163), the Department published a notice inviting applications for new awards for fiscal year 2001. The notice established May 22, 2001 as the deadline for intergovernmental review. The Secretary changes the deadline for intergovernmental review for the Reading Excellence Program grant competition. The Secretary takes this action to expedite the awarding of grants, which in turn will allow States more time to implement their grant programs.

DATES: The new deadline for intergovernmental review is June 6, 2001. The deadline for transmittal of applications remains May 7, 2001.

FOR FURTHER INFORMATION CONTACT: Nancy Rhett, U.S. Department of Education, 400 Maryland Avenue, SW., Room 5C141, Washington, DC 20202-6200; Telephone: (202) 260-8228. If you use a telecommunications device for the deaf (TDD), you may call the Federal Information Relay Service (FIRS) at 1-888-877-8339.

Electronic Assess to This Document

You may view this document, as well as all other Department of Education documents published in the Federal Register, in text or Adobe Portable Document Format (PDF) on the Internet at the following site: www.ed.gov/legislation/FedRegister.

To use PDF, you must have Adobe Acrobat Reader, which is available free at the previous site. If you have questions about using PDF, call the U.S. Government Printing Office (GPO) toll free at 1-888-293-6498; or in the Washington, DC area at (202) 512-1530.

Note: The official version of this document is the document published in the Federal Register. Free Internet access to the official edition of the Federal Register and the Code of Federal Regulations is available on GPO Access at: http://www.access.gpo.gov/nara/index.html

Authority: 20 U.S.C. 7131.

Dated: April 26, 2001.
Thomas M. Corwin,
Acting Deputy Assistant Secretary for Elementary and Secondary Education.

[FR Doc. 01-10884 Filed 5-1-01; 8:45 am]

BILLING CODE 4000-01-M